DEPARTMENT OF THE INTERIOR

National Park Service

Notice of Intent to Repatriate a Cultural Item: San Diego Archaeological Center, San Diego, CA

AGENCY: National Park Service, Interior.

ACTION: Notice.

Notice is here given in accordance with the Native American Graves Protection and Repatriation Act (NAGPRA), 43 CFR 10.8 (f), of the intent to repatriate a cultural item in the possession of the San Diego Archaeological Center, San Diego, CA, that meets the definition of sacred objects under 25 U.S.C. 3001.

This notice is published as part of the National Park Service's administrative responsibilities under NAGPRA, 43 CFR 10.8 (f). The determinations within this notice are the sole responsibility of the museum, institution, or Federal agency that has control of the cultural item. The National Park Service is not responsible for the determinations within this notice.

The one cultural item is a ceramic pipe fragment excavated from an archeological site in San Diego County, CA.

The ceramic pipe fragment was excavated in 1977-78 from site CA-SDI-675, which is west of Highway 76 near Monserate Road in northern San Diego County, CA, by Archaeological Consulting Technology, Inc. (ACT), as part of a development project. The collection of archeological materials from site CA-SDI-675 was brought to the San Diego Archaeological Center on October 21, 1998, for curation. During collection preparation, the ceramic pipe fragment was identified as the only item in the site CA-SDI-675 collection subject to repatriation under NAGPRA.

Archeological evidence, including artifacts typical of the late Prehistoric period (1500 B.C. to circa A.D. 1700), indicates that the site described above is Native American. The sacred nature of the cultural item is indicated by archeological and historical literature, as well as oral historical evidence presented during consultation. Ceramic pipes are used in sacred ceremonies by the Luiseno Indians. Archeological and historical literature and oral historical evidence also confirms that the site lies within traditional and historical Luiseno territory.

Officials of the San Diego Archaeological Center have determined that, pursuant to 25 U.S.C. 3001 (3)(C), the cultural item is a specific ceremonial object needed by traditional Native American religious leaders for the practice of traditional Native American religions by their present-day adherents. Officials of the San Diego Archaeological Center also have determined that, pursuant to 25 U.S.C. 3001, there is a relationship of shared group identity that can be reasonably traced between the sacred object and the La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; Soboba Band of Luiseno Indians, California; and Twenty-Nine Palms Band of Mission Indians of California.

Representatives of any other Indian tribe that believes itself to be culturally affiliated with the sacred object should contact Cindy Stankowski, Director, San Diego Archaeological Center, 16666 San Pasqual Valley Road, Escondido, CA 92027, before July 7, 2004. Repatriation of the sacred object to the La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; Soboba Band of Luiseno Indians, California; and Twenty-Nine Palms Band of Mission Indians of California may proceed after that date if no additional claimants come forward.

The San Diego Archaeological Center is responsible for notifying the La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; San Luis Rey Band of Mission Indians (a nonfederally recognized Indian group); Soboba Band of Luiseno Indians, California; and Twenty-Nine Palms Band of Mission Indians of California that this notice has been published.

Dated: April 5, 2004.
John Robbins,
Assistant Director, Cultural Resources.

[FR Doc. 04-12662 Filed 6-4-04; 8:45 am]

BILLING CODE 4310-50-S